DEPARTMENT OF JUSTICE

Antitrust Division

Notice Pursuant to the National Cooperative Research and Production Act of 1993—MPLS and Frame Relay Alliance

Notice is hereby given that, on September 23, 2004, pursuant to section 6(a) of the National Cooperative Research and Production Act of 1993, 15 U.S.C. 4301 et seq. (“the Act”), MPLS and Frame Relay Alliance (“MFA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: MPLS and Frame Relay Alliance, Fremont, CA. The nature and scope of MFA's standards development activities are: (1) Serving as a meeting ground for companies that are creating and deploying products that implement MPLS, or services that depend on the capabilities introduced by MPLS and its associated technologies; (2) identifying, selecting, augmenting, as appropriate, and publishing MPLS implementation agreements drawn from appropriate national and international, defacto, and dejure standards; (3) identifying, selecting, augmenting, as appropriate, and publishing frame relay implementation agreements drawn from appropriate national and international, defacto, and dejure standards; (4) promoting/fostering the measurement, demonstration and testing of frame relay products in order to further compatibility and interoperability; (5) conducting cooperative research; (6) developing proposals to be made to appropriate national and international standards bodies in order to further system compatibility and interoperability; and (7) developing publications and informational materials. “Implementation agreement(s)” shall mean specifications, protocols, system architectures and other similar guidelines related to multi-protocol label switching and/or frame relay technologies that may be developed, adopted, published or otherwise made available to the public by the Corporation.

Dorothy B. Fountain,
Deputy Director of Operations, Antitrust Division.

[FR Doc. 04-26204 Filed 11-26-04; 8:45 am]

BILLING CODE 4410-11-M